DEPARTMENT OF THE INTERIOR

Bureau of Land Management

[Docket No. OR-035-01-1220-AB: GP0-01-0075]

Notice of Meeting of the Oregon Trail Interpretive Center Advisory Board

AGENCY: National Historic Oregon Trail Interpretive Center, Vale District, Bureau of Land Management, Interior.

ACTION: Notice of meeting.

SUMMARY: Notice is given that a meeting of the Advisory Board for the National Historic Oregon Trail Interpretive Center will be held on Tuesday, February 20, 2001 from 8:00 a.m. to 12:00 Noon in the Library Room at the Best Western Sunridge Inn, One Sunridge Lane, Baker City, Oregon. Public comments will be received from 12:00 noon to 12:15 p.m., February 20, 2001. Topics to be discussed are the Action Plan Development for Advisory Board recommendations for FY2001-2002, Marketing Strategy for NHOTIC, and the Capital Expansion Plan.

DATES: The meeting will begin at 8:00 a.m. and run to 12:00 Noon, February 20, 2001.

FOR FURTHER INFORMATION CONTACT: David B. Hunsaker, Bureau of Land Management, National Historic Oregon Trail, Interpretive Center, PO Box 987, Baker City, OR 97814, (Telephone 541-523-1845).

Roy L. Masinton,
Acting Vale District Manager.

[FR Doc. 01-2396 Filed 1-25-01; 8:45 am]

BILLING CODE 4310-33-M